Title 3—

The President

Presidential Determination No. 02-26 of July 17, 2002

Determination Under Section 610(a) of the Foreign Assistance Act of 1961, as amended, to Transfer $10.3 million to the Operating Expense Appropriation

Memorandum for the Administrator of the United States Agency for International Development

Pursuant to the authorities vested in me by section 610(a) of the Foreign Assistance Act of 1961, as amended (the “Act”), I hereby determine that it is necessary for the purposes of the Act that $10.3 million appropriated to carry out chapter 1 of part I of the Act be transferred to, and consolidated with, appropriations made to carry out section 667(a) of the Act. I hereby authorize such transfer and consolidation.

This determination shall be effective immediately and shall be published in the Federal Register.

B

THE WHITE HOUSE,

Washington, July 17, 2002

[FR Doc. 02-19698

Filed 8-1-02; 8:45 am]

Billing code 6116-01-M